DEPARTMENT OF TRANSPORTATION

Federal Aviation Administration

[Summary Notice No. PE-2001-59]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on August 8, 2001.
Donald P. Bryne,
Assistant Chief Counsel for Regulations.

Dispositions of Petitions

Docket No.: FAA-2001-9346.

Petitioner: BF Goodrich Aerospace.

Section of 14 CFR Affected: 14 CFR § 25.813(e).

Description of Relief Sought/Disposition: To permit the installation of interior doors between passenger compartments on the DB-700-1A10 airplane. Grant, 07/20/2001, Exemption No. 7573.

Docket No.: FAA-2001-9679.

Petitioner: Lufthansa Technik.

Section of 14 CFR Affected: 14 CFR § 25.785(j).

Description of Relief Sought/Disposition: To permit the installation of an interior arrangement that does not provide firm handholds for the Boeing Model 737-700IGW airplane. Grant, 07/20/2001, Exemption No. 7572.

Docket No.: FAA-2001-9924 (previously Docket No. 29342).

Petitioner: Airbus Industrie of North America, Inc.

Section of 14 CFR Affected: 14 CFR § 61.77(a).

Description of Relief Sought/Disposition: To permit pilots and flight engineers employed by Airbus to be eligible for the issuance of special purpose pilot and flight engineer authorizations, under part 61 and 65, as appropriate, for the purpose of performing delivery flights of U.S.-registered airplanes between foreign countries and from a foreign country to the United States. Grant, 07/24/2001, Exemption No. 6850B.

Docket No.: FAA-2001-8995.

Petitioner: Mr. Steven D. Perry.

Section of 14 CFR Affected: 14 CFR § 135.243(b)(2) and (c)(2).

Description of Relief Sought/Disposition: To permit Mr. Perry to serve as pilot in command (PIC) of an aircraft in part 135 cargo operations under visual flight rules (VFR) and instrument flight rules (IFR) without meeting the total VFR and IFR flight time requirements for PIC. Denial, 07/24/2001, Exemption No. 7574.

Docket No.: 29848.

Petitioner: Baltimore County Police Department.

Section of 14 CFR Affected: 14 CFR §§ 1.1 and 61.45(a).

Description of Relief Sought/Disposition: To permit BCPD pilots to undergo part 61 flight training and practical tests in the BCPD's public aircraft, specifically former military Bell (OH-58) helicopters. Denial, 07/24/2001, Exemption No. 7575.

Docket No.: 29498.

Petitioner: Eastern Cincinnati Aviation, Inc.

Section of 14 CFR Affected: 14 CFR appendixes I and J to part 121, §§ 135.251, 135.255, and 135.353.

Description of Relief Sought/Disposition: To permit ECA to (1) conduct limited aviation familiarization flights, without complying with certain antidrug and alcohol misuse prevention requirements of part 135; and (2) conduct local sightseeing flights from Clermont County Airport to promote general aviation, for compensation or hire, without complying with certain antidrug and alcohol misuse prevention requirements of part 135. Denial, 07/24/2001, Exemption No. 7576.

Docket No.: FAA-2001-9086 (previously Docket No. 26326).

Petitioner: T.B.M., Inc., and Butler Aircraft.

Section of 14 CFR Affected: 14 CFR § 91.611.

Description of Relief Sought/Disposition: To permit TBM and Butler to conduct ferry flights in their Lockheed C-130A aircraft with one engine inoperative without obtaining a special flight permit for each flight. Grant, 07/24/2001, Exemption No. 6667B.

Docket No.: FAA-2001-9030 (previously Docket No. 23760).

Petitioner: State of Alaska, Department of Natural Resources, Division of Forestry.

Section of 14 CFR Affected: 14 CFR § 91.119 (b) and (c).

Description of Relief Sought/Disposition: To allow pilots employed by or acting pursuant to a contract with the DOF to conduct firefighting operations that require the aerial application of fire retardants or water over congested areas and cargo paradrops and/or aerial application of fire retardants or water over other than congested areas in the State of Alaska. Grant, 07/24/2001, Exemption No. 4063C.

Docket No.: FAA-2001-8861 (previously Docket No. 26237).

Petitioner: MCIWORLDCOM Management Company, Inc.

Section of 14 CFR Affected: 14 CFR § 91.611.

Description of Relief Sought/Disposition: To permit MCI to conduct ferry flights with one engine inoperative in MCI's Falcon Trijet airplane, Model No. 900, without obtaining a special flight permit for each flight. Grant, 07/24/2001, Exemption No. 5332E.

Docket No.: FAA-2001-9135 (previously Docket No. 24541).

Petitioner: Boeing Commercial Airplane Group.

Section of 14 CFR Affected: 14 CFR § 91.611.

Description of Relief Sought/Disposition: To permit BCAG to conduct ferry flights with one engine inoperative on its Boeing 707, 720, 727, 747 (B-707, -720, -727, -747), DC-10, MD-10, and MD-11 airplanes without obtaining a special ferry permit. Grant, 07/24/2001, Exemption No. 4467H.

Docket No.: FAA-2001-8936.

Petitioner: Mr. Robert P. Lavery.

Section of 14 CFR Affected: 14 CFR § 91.109 (a) and (b)(3).

Description of Relief Sought/Disposition: To permit Mr. Lavern to conduct certain flight instruction and simulated instrument flights to meet the recent instrument experience requirements in certain Beechcraft airplanes equipped with a functioning throwover control wheel in place of functioning dual controls. Grant, 07/06/2001, Exemption No. 7571.

[FR Doc. 01-20314 Filed 8-13-01; 8:45 am]

BILLING CODE 4910-13-M